DEPARTMENT OF ENERGY

10 CFR Part 430

[Docket No. EERE-2014-BT-STD-0025]

RIN 1904-AD04

Energy Conservation Program for Consumer Products: Energy Conservation Standards for Computer and Battery Backup Systems

AGENCY: Office of Energy Efficiency and Renewable Energy, Department of Energy.

ACTION: Extension of public comment period.

SUMMARY: This document announces an extension of the time period for submitting comments, data, and information on the framework document for computer and battery backup systems (hereafter referred to as “computer systems”) published on July 17, 2014. The comment period is extended.

DATES: The comment period for the framework document for computer systems published on July 17, 2014 (79 FR 41656) is extended to October 2, 2014.

ADDRESSES: Interested persons may submit comments, identified by docket number EERE-2014-BT-STD-0025, by any of the following methods:

• Federal eRulemaking Portal: www.regulations.gov. Follow the instructions for submitting comments.

• Email: ComputerSystems2014STD0025@ee.doe.gov. Include EERE-2014-BT-STD-0025 and/or RIN 1904-AD04 in the subject line of the message. All comments should clearly identify the name, address, and, if appropriate, organization of the commenter. Submit electronic comments in WordPerfect, Microsoft Word, PDF, or ASCII file format, and avoid the use of special characters or any form of encryption.

• Mail: Ms. Brenda Edwards, U.S. Department of Energy, Building Technologies Office, Mailstop EE-5B, Notice of Availability of Framework Document for Computer and Battery Backup Systems, EERE-2014-BT-STD-0025 and/or RIN 1904-AD04, 1000 Independence Avenue SW., Washington, DC 20585-0121. Phone: (202) 586-2945. If possible, please submit all items on a compact disc (CD), in which case it is not necessary to include printed copies. [Please note that comments sent by mail are often delayed and may be damaged by mail screening processes.]

• Hand Delivery/Courier: Ms. Brenda Edwards, U.S. Department of Energy, Building Technologies Office, 6th Floor, 950 L'Enfant Plaza SW., Washington, DC 20024. Phone: (202) 586-2945. If possible, please submit all items on a CD, in which case it is not necessary to include printed copies.

Instructions: All submissions received must include the agency name and docket number or RIN for this rulemaking.

Docket: The docket is available for review at http://www.regulations.gov, and will include Federal Register notices, framework document, notice of proposed rulemaking, public meeting attendee lists and transcripts, comments, and other supporting documents/materials throughout the rulemaking process. The regulations.gov Web page contains simple instructions on how to access all documents, including public comments, in the docket. The docket can be accessed by searching for docket number EERE-2014-BT-STD-0025 on the regulations.gov Web site. All documents in the docket are listed in the http://www.regulations.gov index. However, not all documents listed in the index may be publicly available, such as information that is exempt from public disclosure.

FOR FURTHER INFORMATION CONTACT: Mr. Jeremy Dommu, U.S. Department of Energy, Office of Energy Efficiency and Renewable Energy, Building Technologies Office, EE-5B, 1000 Independence Avenue SW., Washington, DC 20585-0121. Telephone: (202) 586-9870. Email: DOE_computer_standards@ee.doe.gov.

In the Office of General Counsel, contact Ms. Celia Sher, U.S. Department of Energy, Office of the General Counsel, GC-71, 1000 Independence Avenue SW., Washington, DC 20585-0121. Telephone: (202) 287-6122. Email: Celia.Sher@hq.doe.gov.

SUPPLEMENTARY INFORMATION: On July 17, 2014, the U.S. Department of Energy (DOE) published a document in the Federal Register initiating a rulemaking and data collection process to consider establishing energy conservation standards for computer systems. 79 FR 41656. In that document, DOE announced the availability of a framework document. The document provided for the submission of written comments by September 2, 2014. Jointly, the Consumer Electronics Association and the Information Technology Industry Council requested an extension of the public comment period to ensure that key industry representatives have adequate time to review and provide comments on the framework document given vacation schedules over the month of August and a comment deadline that ends the day after Labor Day, also a holiday period.

DOE has determined that an extension of the public comment period is appropriate to allow stakeholders additional time to submit comments to DOE for consideration. Thus, DOE is extending the comment period by 30 days. DOE will consider any comments received by October 2, 2014 to be timely submitted.

Issued in Washington, DC, on July 28, 2014.
Kathleen B. Hogan,
Deputy Assistant Secretary for Energy Efficiency, Energy Efficiency and Renewable Energy.

[FR Doc. 2014-18349 Filed 8-4-14; 8:45 am]

BILLING CODE 6450-01-P